DEPARTMENT OF JUSTICE

Notice of Lodging of Proposed Amended Consent Decree Under the Comprehensive Environmental Response, Compensation, and Liability Act

On October 31, 2019, the Department of Justice lodged a proposed Amended Consent Decree with the United States District Court for the District of Minnesota in the lawsuit entitled United States, et al. v. Reilly Tar & Chem. Corp., et al., Civil Action No. 4:80-cv-469.

On September 4, 1986, the Court had previously entered a Consent Decree in this action resolving claims brought by Plaintiffs the United States of America and the State of Minnesota against Reilly Tar & Chemical Corporation, Housing and Redevelopment of St. Louis Park, Oak Park Village Associates, Rustic Oaks Condominium Inc., and Phillip's Investment Co. (collectively, the “Defendants”), and the consolidated actions brought by the City of St. Louis Park and the City of Hopkins against Reilly Tar & Chemical Corporation. Those actions were brought under Sections 106 and 107 of the Comprehensive Environmental Response, Compensation, and Liability Act (“CERCLA”), 42 U.S.C. 9606-07, seeking injunctive relief regarding the cleanup of the Reilly Tar & Chemical Corporation (St. Louis Park Plant) Superfund Site in St. Louis Park, Minnesota (the “Site”) and recovery of certain response costs incurred in connection with releases and threatened releases of hazardous substances at and from the Site.

The proposed Amended Consent Decree addresses issues raised by the bankruptcy liquidation of Reilly Tar's successor in liability, updated state and federal Performance Standards for various contaminants of concern, as well as an evolved understanding of the conceptual site model. The proposed Amended Consent Decree reflects a cooperative approach among the remaining parties to address these issues. The City of St. Louis Park will formally undertake the obligation to finance and perform the remaining work addressing contaminated groundwater, obligations previously undertaken by the City of St. Louis Park pursuant to a side-agreement with Reilly Tar, and the Remedial Action Plan has been updated to incorporate current Maximum Contaminant Levels and state limits for the contaminants of concern.

The publication of this notice opens a period for public comment on the proposed Amended Consent Decree. Comments should be addressed to the Assistant Attorney General, Environment and Natural Resources Division, and should refer to United States, et al. v. Reilly Tar & Chem. Corp., et al., D.J. Ref. No. 90-7-1-21/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Amended Consent Decree may be examined and downloaded at this Justice Department website: https://www.justice.gov/enrd/consent-decrees.

We will provide a paper copy of the Amended Consent Decree upon written request and payment of reproduction costs. Please mail your request and payment to: Consent Decree Library, U.S. DOJ—ENRD, P.O. Box 7611, Washington, DC 20044-7611.

Please enclose a check or money order for $29.50 (25 cents per page reproduction cost) payable to the United States Treasury. For a paper copy without the exhibits and signature pages, the cost is $10.75.

Randall M. Stone,
Acting Assistant Section Chief, Environmental Enforcement Section, Environment and Natural Resources Division.

[FR Doc. 2019-24469 Filed 11-8-19; 8:45 am]

BILLING CODE 4410-15-P